ENVIRONMENTAL PROTECTION AGENCY

[OPP-2003-0333; FRL-7324-2]

Fenthion; Product Registrations Cancellation Order

AGENCY: Environmental Protection Agency (EPA).

ACTION: Notice.

SUMMARY: EPA is issuing a cancellation order for the cancellations, as requested by Bayer Environmental Science, of all of Bayer's registrations for products containing O,O-dimethyl O-(4-(methylthio)-m-tolyl)phosphorothioate (fenthion) and accepted by EPA, pursuant to section 6(f) of the Federal Insecticide, Fungicide, and Rodenticide Act (FIFRA). This order follows up a May 30, 2003 notice of receipt of requests from Bayer for cancellations of all of Bayer's fenthion product registrations.

In the May 30, 2003 notice, EPA indicated that it would issue an order granting the voluntary product registration cancellations, unless the Agency received any substantive comments within the comment period that would merit its further review of these requests. After reviewing the comments received, EPA decided to approve the voluntary cancellation request. Accordingly, EPA hereby issues this notice of a cancellation order granting the requested cancellations. Any distribution, sale, or use of the products subject to this cancellation order is only permitted in accordance with the terms of the existing stocks provisions of this cancellation order.

DATES: This cancellation order will be effective June 30, 2004.

FOR FURTHER INFORMATION CONTACT: Susan Jennings, Special Review and Reregistration Division (7508C), Office of Pesticide Programs, Environmental Protection Agency, 1200 Pennsylvania Ave., NW., Washington, DC 20460-0001; telephone number: (706) 355-8574; e-mail address: jennings.susan@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket identification (ID) number OPP-2003-0122. The official public docket consists of the documents specifically referenced in this action, any public comments received, and other information related to this action. Although a part of the official docket, the public docket does not include Confidential Business Information (CBI) or other information whose disclosure is restricted by statute. EPA also established two dockets containing documents in support of the fenthion IRED. They are dockets OPP-34145 and OPP-34145A. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

This notice announces cancellation, as requested by the pesticide registrant, Bayer, of its fenthion products registered under section 3 of FIFRA. These registrations are listed in sequence by registration number in Table 1 of this unit. Additionally, there are four FIFRA section 24(c) registrations, which the Agency intends to address in a separate action.

Fenthion is an organophosphorous insecticide used to control adult mosquitos in two counties in Florida. In a letter dated March 31, 2003, Bayer Environmental Science requested a voluntary cancellation of all its registrations for products containing fenthion, to be effective June 30, 2004. Bayer stated that this decision was based on the fact that the market for this product is very limited, in addition to the expected costs for generating data to meet the requirements mandated by the FIFRA reregistration process.

Table 1.—Registrations with Pending Requests for Cancellation
Registration number | Product name | Chemical name
432-1285 | Baytex Liquid Concentrate Insecticide | Fenthion
432-1290 | Baytex Technical Insectide | Fenthion

Table 2 of this unit includes the name and address of record for the registrant of the products in Table 1 of this unit:

Table 2.—Registrants Requesting Voluntary Cancellation
EPA company nunber | Company name and address
432 | Bayer Environmental Science, 95 Chestnut Ridge Road, Montvale, NJ 07645

III. Cancellation Order

Pursuant to section 6(f) of FIFRA, EPA hereby approves the requested cancellations of fenthion product registrations identified in Table 1 of this notice. Accordingly, the Agency orders that the fenthion product registrations identified in Table 1 are hereby canceled as of June 30, 2004. After June 30, 2004, it will be unlawful for any person to distribute or sell any fenthion product, except as provided in Unit VI. Use of any fenthion products before November 30, 2004, including canceled products, must be in accordance with label directions and restrictions. Use of any fenthion products after November 30, 2004, is unlawful.

IV. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

V. What Comments did the Agency Receive?

EPA received three sets of comments on the voluntary cancellation request for fenthion products during the comment period. The commenters, American Bird Conservancy, Defenders of Wildlife, and Florida Wildlife Federation, as well as two private citizens, all supported the granting of the volunatary cancellation request.

EPA also received one comment from the Lee County Mosquito Control District (LCMCD) after the close of the comment period. Although EPA is not obligated to consider untimely comments, the Agency did review the comment. EPA does not believe the issues raised by LCMCD merit further review or a denial of the voluntary cancellation request. EPA's detailed response to the LCMCD comment may be found in the docket listed in Unit I.B.1.

VI. Provisions for Disposition of Existing Stocks

Existing stocks are those stocks of registered pesticide products which are currently in the United States and which have been packaged, labeled, and released for shipment prior to the effective date of the cancellation action. Sale and distribution of fenthion products will not be permitted after June 30, 2004, except for the return to Bayer of unused product or for proper disposal until December 31, 2004. Use of any fenthion products will not be lawful under FIFRA after November 30, 2004. Use of fenthion products, including canceled products prior to November 30, 2004, must be in accordance with the label directions and restrictions.

List of Subjects

Environmental protection, Pesticides and pests.

Dated: September 15, 2003.
Betty Shackleford,
Acting Director, Information Resources Services Division, Office of Pesticide Programs.

[FR Doc. 03-24535 Filed 9-25-03; 8:45 am]

BILLING CODE 6560-50-S